DEPARTMENT OF HEALTH AND HUMAN SERVICES

National Institutes of Health

Proposed Collection; 60-Day Comment Request; Population Assessment of Tobacco and Health (PATH) Study—Wave 4 of Data Collection (NIDA)

Summary: In compliance with the requirement of Section 3506(c)(2)(A) of the Paperwork Reduction Act of 1995, for opportunity for public comment on proposed data collection projects, the National Institute on Drug Abuse (NIDA), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and For Further Information: To obtain a copy of the data collection plans and instruments, submit comments in writing or request more information on the proposed project, contact: Kevin P. Conway, Ph.D., Deputy Director, Division of Epidemiology, Services, and Prevention Research, National Institute on Drug Abuse, 6001 Executive Boulevard, Room 5185; or call non-toll-free number (301) 443-8755; or Email your request, including your address to: PATHprojectofficer@mail.nih.gov. Formal requests for additional plans and instruments must be requested in writing.

Comment Due Date: Comments regarding this information collection are best assured of having their full effect if received within 60 days of the date of this publication.

Proposed Collection: Population Assessment of Tobacco and Health (PATH) Study—Wave 4 of Data Collection (NIDA)—0925-0664, expiration date 8/31/2018—REVISION—NIDA, NIH, in partnership with the Food and Drug Administration (FDA).

Need and Use of Information Collection: This is a revision request (OMB number 0925-0664, expiration date 8/31/2018) for the Population Assessment of Tobacco and Health (PATH) Study to conduct the fourth wave of data collection. The PATH Study is a large national longitudinal cohort study on tobacco use behavior and health among the U.S. household population of adults age 18 and older and youth ages 12 to 17. On an annual basis, the PATH Study conducts interviews with and collects biospecimens from adults and youth to help inform the development, implementation, and evaluation of tobacco-product regulations by FDA in meeting its mission under the Family Smoking Prevention and Tobacco Control Act (TCA) to regulate tobacco products, including tobacco-product advertising, labeling, marketing, constituents, ingredients, and additives. The longitudinal design of the PATH Study provides it with the capacity to measure and report within-person changes and between-person differences in tobacco product use behaviors and health effects within the cohort over time. These data will help to inform regulatory decisions and actions by FDA and FDA's evaluations of associations between its regulations and tobacco use behaviors and health indicators in the population.

OMB approval is requested for 3 years. There are no costs to respondents other than their time. The total estimated annualized burden hours are 105,079.

Estimated Annualized Burden Hours
Form name | Type of respondent | Number of respondents | Number of responses per respondent | Average burden per response (in hours) | Total annual burden hours
1. Household Screener | Households | 86,559 | 1 | 14/60 | 20,197
2. Shadow Youth Only Screener | Households | 56,659 | 1 | 5/60 | 4,722
3. Extended Interview * | Adults—Adult respondents—previous wave | 23,414 | 1 | 1 | 23,414
4. Consent for Extended Interview | Adults—New adults and Wave 1 youth respondents who age up to adult cohort—Wave 4 | 13,984 | 1 | 4/60 | 932
5. Individual Screener | Adults—New adults | 9,152 | 1 | 6/60 | 915
6. Extended Interview * | Adults—New adults and Wave 1 youth respondents who age up to adult cohort—Wave 4 | 10,737 | 1 | 68/60 | 12,169
7. Consent for Biological Samples | Adults—New adults and Wave 1 youth respondents who age up to adult cohort—Wave 4 | 10,737 | 1 | 5/60 | 895
8. Biospecimen Collection: Urine | Adults | 18,301 | 1 | 10/60 | 3,050
9. Biospecimen Collection: Blood | Adults—New adults and Wave 1 youth respondents who age up to adult cohort—Wave 4 | 4,832 | 1 | 18/60 | 1,450
10. Tobacco Use Form | Adults | 23,133 | 1 | 5/60 | 1,928
11. Follow-up/Tracking Participant Information Form | Adults | 34,151 | 2 | 8/60 | 9,107
12. Verification Interview | Adults | 33,889 | 1 | 2/60 | 1,130
13. Validation Interview | Adults | 301 | 1 | 4/60 | 20
14. Extended Interview ** | Youth—Youth respondents—previous wave | 8,627 | 1 | 35/60 | 5,032
15. Assent for Extended Interview | Youth—New youth and shadow youth who age up to youth cohort—Wave 4 | 7,657 | 1 | 3/60 | 383
16. Extended Interview ** | Youth—New youth and shadow youth who age up to youth cohort—Wave 4 | 6,432 | 1 | 45/60 | 4,824
17. Assent for urine collection | Youth | 15,059 | 1 | 5/60 | 1,255
18. Biospecimen Collection: Urine | Youth | 10,239 | 1 | 10/60 | 1,707
19. Tobacco Use Form | Youth | 10,239 | 1 | 5/60 | 853
20. Parent Interview | Adults—Parents of youth respondents—previous wave | 8,800 | 1 | 16/60 | 2,347
21. Parent Permission and Consent for Parent Interview | Adults—Parents of new youth and parents of Shadow youth who age up to youth cohort—Wave 4 | 7,657 | 1 | 5/60 | 638
22. Parent Interview | Adults—Parents of new youth and parents of shadow youth who age up to youth cohort—Wave 4 | 6,561 | 1 | 19/60 | 2,078
23. Parent permission for urine collection | Adults—Parents of youth respondents—previous wave | 15,360 | 1 | 3/60 | 768
24. Follow-up/Tracking Participant Information Form for Youth (completed by parents) | Adults—Parents of youth respondents | 15,059 | 2 | 8/60 | 4,016
25. Follow-up/Tracking Participant Information Form for sample shadow youth (completed by parents) | Adults—Parents of shadow youth | 4,684 | 2 | 8/60 | 1,249
Total |  | 49,210 | 496,116 |  | 105,079

Dated: April 5, 2016.
Genevieve deAlmeida-Morris,
Project Clearance Liaison, National Institute on Drug Abuse, NIH.

[FR Doc. 2016-08658 Filed 4-14-16; 8:45 am]

BILLING CODE 4140-01-P